DEPARTMENT OF ENERGY

Federal Energy Regulatory Commission

Notice of Commission Staff Attendance

The Federal Energy Regulatory Commission hereby gives notice that members of the Commission's staff may attend the following meetings: Of the Organization of MISO States and Midwest Independent Transmission System Operator, Inc. (MISO):

OMS Annual Meeting, October 18, 2011, 9 a.m.-3 p.m., Local Time.

MISO Board Markets Subcommittee, October 19, 2011, 8 a.m.-10 a.m., Local Time.

MISO Advisory Committee Meeting, October 19, 2011, 10 a.m.-3 p.m., Local Time.

MISO Board of Directors Meeting, October 20, 2011, 8:30 a.m.-10 a.m., Local Time.

The above-referenced meeting will be held at:

MISO Headquarters, 720 City Center Drive, Carmel, IN 46032.

The above-referenced meeting is open to the public.

Further information may be found at http://www.misoenergy.org.

The discussions at the meeting described above may address matters at issue in the following proceedings:

Docket No. ER10-1791, Midwest Independent Transmission System Operator, Inc.

Docket No. ER11-3728, Midwest Independent Transmission System Operator, Inc.

Docket No. EL11-56, First Energy Service Company.

Docket No. OA08-53, Midwest Independent Transmission System Operator, Inc.

For more information, contact Christopher Miller, Office of Energy Markets Regulation, Federal Energy Regulatory Commission at (317) 249-5936 or christopher.miller@ferc.gov.

Dated: October 12, 2011.
Kimberly D. Bose,
Secretary.

[FR Doc. 2011-26986 Filed 10-18-11; 8:45 am]

BILLING CODE 6717-01-P